DEPARTMENT OF TRANSPORTATION

Federal Aviation Administration

14 CFR Part 39

[Docket No. 2001-NM-142-AD; Amendment 39-13157; AD 2003-10-12]

RIN 2120-AA64

Airworthiness Directives; Airbus Model A330 and A340 Series Airplanes

AGENCY: Federal Aviation Administration, DOT.

ACTION: Final rule.

SUMMARY: This amendment adopts a new airworthiness directive (AD), applicable to certain Airbus Model A330 and A340 series airplanes, that requires, among other actions, modifying the down drive brackets of the left- and right-hand sides of the inboard flap track 1 assembly and installation of bigger bolts and washers, and testing the torque value of the nuts. The actions specified by this AD are intended to prevent failure of the bolts due to flexural loads caused by transmission jam loading, which could lead to a “flap-locked” condition, causing reduced controllability of the airplane. This action is intended to address the identified unsafe condition.

DATES: Effective July 1, 2003.

The incorporation by reference of certain publications listed in the regulations is approved by the Director of the Federal Register as of July 1, 2003.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., Suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A330 and A340 series airplanes was published as a supplemental notice of proposed rulemaking (NPRM) in the Federal Register on January 3, 2003 (68 FR 302). That action proposed to require, among other actions, modifying the down drive brackets of the left- and right-hand inboard flap track 1 assembly, and testing the torque value of the nuts.

Comments

Interested persons have been afforded an opportunity to participate in the making of this amendment. No comments were submitted in response to the supplemental proposal or to the FAA's determination of cost to the public.

Conclusion

After careful review of the available data, the FAA has determined that air safety and the public interest require the adoption of the rule as proposed.

Cost Impact

The FAA estimates that 9 airplanes of U.S. registry will be affected by this AD, that it will take approximately 13 work hours per airplane to accomplish the modifications and installations, and that the average labor rate is $60 per work hour. Based on these figures, the cost impact of the AD on U.S. operators is estimated to be $7,020, or $780 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-10-12 Airbus: Amendment 39-13157. Docket 2001-NM-142-AD.

Applicability: The airplanes specified in Table 1 of this AD, certificated in any category. Table 1 is as follows:

Table 1.—Applicability
Model— | Which have received— | Excluding airplanes—
A330 series airplanes | Airbus Modification 45326 in production | Modified in production per Airbus Modification 47619, or modified in service per Airbus Service Bulletin A330-57-3067, Revision 03, dated August 7, 2002.
A340 series airplanes | Airbus Modification 45326 in production | Modified in production per Airbus Modification 47619, or modified in service per Airbus Service Bulletin A340-57-4075, Revision 02, dated August 7, 2002.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the bolts due to flexural loads caused by transmission jam loading, which could lead to a “flap-locked” condition, causing reduced controllability of the airplane, accomplish the following:

Modification and Testing

(a) At the times specified in Table 2 of this AD, modify the down drive brackets of the left- and right-hand inboard flap track 1 assembly and test the torque value of the nuts by accomplishing all actions specified in the Accomplishment Instructions of Airbus Service Bulletin A330-57-3067, Revision 03, dated August 7, 2002 (for Model A330 series airplanes); or Airbus Service Bulletin A340-57-4075, Revision 02, dated August 7, 2002 (for Model A340 series airplanes); as applicable. Table 2 is as follows:

Table 2.—Compliance Time
Compliance time— | Action— | For model— | On which—
(1) Within 36 months since date of manufacture of the airplane, or within 6 months from the effective date of this AD, whichever occurs later | (i) Modify | A330 series airplanes | Airbus Service Bulletin A330-57-3067, dated October 12, 2000; Revision 01, dated April 10, 2001; or Revision 02, dated February 2, 2002; has not been done.
| (ii) Modify | A340 series airplanes | Airbus Service Bulletin A340-57-4075, dated October 12, 2000; or Revision 01, dated April 10, 2001; has not been done.
(2) Within 700 flight hours from the effective date of this AD | (i) Test | A330 series airplanes | Airbus Service Bulletin A330-57-3067, dated October 12, 2000; Revision 01, dated April 10, 2001; has been done using U.S. Customary Units.
| (ii) Test | A340 series airplanes | Airbus Service Bulletin A340-57-4075, dated October 12, 2000; or Revision 01, dated April 10, 2001; has been done using U.S. Customary Units.

Parts Installation

(b) As of the effective date of this AD, no person shall install, on any airplane, an inboard flap track 1 assembly unless it has been modified and its associated nuts have been torqued in accordance with this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Airbus Service Bulletin A330-57-3067, Revision 03, dated August 7, 2002; or Airbus Service Bulletin A340-57-4075, Revision 02, dated August 7, 2002; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., Suite 700, Washington, DC.

Note 3: The subject of this AD is addressed in French airworthiness directives 2002-368(B) and 2002-369(B), both dated August 7, 2002.

Effective Date

(f) This amendment becomes effective on July 1, 2003.

Issued in Renton, Washington, on May 16, 2003.
Vi L. Lipski,
Manager, Transport Airplane Directorate, Aircraft Certification Service.

[FR Doc. 03-12842 Filed 5-23-03; 8:45 am]

BILLING CODE 4910-13-P